DEPARTMENT OF TRANSPORTATION

Federal Aviation Administration

[Docket No: FAA-2022-0223]

FY 2022 Competitive Funding Opportunity: Airport Improvement Program Discretionary Grants

AGENCY: Federal Aviation Administration, U.S. Department of Transportation.

ACTION: Notice of funding opportunity.

SUMMARY: The U.S. Department of Transportation's Federal Aviation Administration (FAA) announces the opportunity to apply for approximately $1.5 billion in Fiscal Year (FY) 2022 discretionary grants under the Airport Improvement Program (AIP). FAA will award these annually appropriated discretionary funds through the FAA's long-standing iterative, competitive grant process. Prior to the publication of this Notice of Funding Opportunity (NOFO), the FAA identified eligible applicants in its National Plan of Integrated Airport Systems (NPIAS) and compiled potentially eligible projects through the 3-year Airports Capital Improvement Plan (ACIP). Both of these processes are described in FAA Order 5090.5, Formulation of NPIAS and ACIP that authorizes discretionary funds. The AIP funds airport capital improvements and rehabilitation projects. All discretionary grant funding is subject to appropriations, statutory requirements, and related program funding availability.

DATES: Sponsors that wish to be considered for all opportunities for discretionary funding throughout FY 2022 should submit applications that meet NOFO requirements as soon as possible, but no later than Thursday, June 30, 2022, 11:59 Eastern time to FAA Regional or Airport District offices per instructions in this NOFO. The FAA will consider all applications properly submitted prior to this NOFO. Discretionary grant applications should be based on bids.

FOR FURTHER INFORMATION CONTACT: David F. Cushing, Manager, Airports Financial Assistance Division, APP-500, at (202) 267-8827.

SUPPLEMENTARY INFORMATION:

A. Program Description

Under 49 U.S.C. 47104, the FAA may issue grants for airport planning and development in the United States. Eligible projects include those improvements related to enhancing airport safety, capacity, security, and environmental concerns. In addition, 49 U.S.C. 47101(1) states that it is the policy of the United States that the safe operation of the airport and airways system is the highest aviation priority, and 49 U.S.C. 47101(7) states that airport construction and improvement projects that increase the capacity of facilities to accommodate passenger and cargo traffic be undertaken to the maximum feasible extent so that safety and efficiency increase and delays decrease. The FAA's safety mission is incorporated into many aspects of the AIP program including, for example: Justification requirements for safety and security projects, allowance for certain Safety Management System (SMS) and Safety Risk Management (SRM) costs, and allowance for safety and security equipment projects. Within discretionary funding, safety is incorporated as a scoring factor in the quantitative formula, which is the National Priority Rating (NPR) discussed below.

The AIP provides grants to public agencies—and, in some cases, to private owners and entities—for the planning and development of public-use airports that are included in the NPIAS. The AIP was authorized by the Airport and Airway Improvement Act of 1982 (Pub. L. 97-248), which Congress recodified in 1994 as 49 U.S.C. 47101, et seq. (Pub. L. 103-272). The AIP statutes have been amended several times, most recently with the passage of the FAA Reauthorization Act of 2018 (Pub. L. 115-254) and subsequent legislation.

The AIP Assistance Listing is 20.106, with the objective to assist sponsors, owners, or operators of public-use airports in the development of a nationwide system of airports sufficient to meet the needs of civil aeronautics. This includes preserving existing airport infrastructure in a safe and functional operational condition; bringing airport facilities into conformity with current federal safety standards; constructing, modifying, or expanding facilities as necessary to meet demonstrated aeronautical demand; enhancing environmental sustainability; and providing a balanced system of airports to meet the roles and functions necessary to support civil aeronautical demand.

The FY 2022 AIP will be implemented, as appropriate and consistent with AIP statutory criteria and Executive Order 14008, Tackling the Climate Crisis at Home and Abroad (86 FR 7619). In addition to promoting safety, FAA seeks to fund projects that reduce greenhouse gas emissions and are designed with specific elements to address climate change impacts. Specifically, the FAA is looking to award projects that align with the President's greenhouse gas reduction goals, promote energy efficiency, support fiscally responsible land use and efficient transportation design, support airport development compatible with the use of sustainable aviation fuels and technologies, increase climate resilience, incorporate sustainable pavement and construction materials as allowable, reduce pollution, and direct the benefits of these investments equitably. Specifically for AIP, the FAA encourages applicants to consider how a proposed project directs benefits of investments in Voluntary Airport Low Emission (VALE) and Zero Emissions Vehicle (ZEV) programs to disadvantaged communities and ensures meaningful public engagement, under Executive Order 14008, section 223, recognizing that these limited programs direct vehicles for primarily on-airport uses.

In support of Executive Order 13985, Advancing Racial Equity and Support for Underserved Communities Through the Federal Government (86 FR 7009), the FAA encourages applicants to consider how the project will address the challenges faced by individuals and underserved communities in rural areas.

All recipients of federal funding are subject to Title VI of the Civil Rights Act of 1964, and accompanying regulations; the Americans with Disabilities Act; Section 504 of the Rehabilitation Act of 1973; and the associated terms and conditions of any new grant agreements pursuant to this NOFO as well as prior agreements for AIP grants executed by grantees. See also 28 CFR 50.3 (U.S. Department of Justice Guidelines for Enforcement of Title VI of the Civil Rights Act of 1964); and 49 CFR part 28 (entitled Enforcement of Nondiscrimination On The Basis Of Handicap in Programs or Activities Conducted by the Department of Transportation). In certain circumstances, failure to ensure that Limited English Proficiency (LEP) persons can effectively participate in or benefit from federally assisted programs and activities may violate the prohibition under Title VI of the Civil Rights Act of 1964, 42 U.S.C. 2000d, and Title VI regulations against national origin discrimination.

Due to the agency's implementation of the AIP statutory process for determining discretionary funding awards, the FAA did not previously issue NOFOs for competitive grants. This is the first fiscal year the FAA is issuing a NOFO for this well-established capital infrastructure program.

B. Federal Award Information

On average, for the last ten years, $3.35 billion has been appropriated annually for AIP. AIP grants include both apportioned (or entitlement) and discretionary (or competitive) funds. Apportioned funds are allocated in accordance with 49 U.S.C. 47114, based on an airport's size and level of activity. Discretionary funds are made available in accordance with 49 U.S.C. 47115 and 49 U.S.C. 47117.

Public Law 115-254, titled “FAA Reauthorization Act of 2018,” authorizes $3.35 billion in funding authority for the AIP to administer grants for airport planning, development, and noise compatibility planning and programs each fiscal year from October 1, 2018, through September 30, 2023.

This NOFO is being issued under the Consolidated Appropriations Act, 2022 (Pub. L. 117-103). Funding beyond the current available program amount, is subject to appropriations and the availability of future funds.

In FY 2021, 404 discretionary grants were issued, totaling approximately $1.5 billion. The discretionary grants ranged in amount from $25,000 to $37,000,000. The average AIP discretionary grant was $4,000,000. In FY 2022, the FAA anticipates awarding discretionary grants beginning in April 2022 with an individual grant 4-year period of performance.

The AIP is an annual program, and AIP projects are funded based on a planning process described in Order 5090.5, Formulation of NPIAS and ACIP. In this process, the FAA works with potential award recipients on eligible and justified development needs.

The FAA uses the NPIAS to identify airports that have a role in the National Airspace System (NAS) and all potential airport development projects that are eligible for AIP funding at those airports. The FAA formulates a 3-year ACIP to guide the assignment of AIP funding to projects based on airport development needs identified in the NPIAS. The 3-year ACIP, as a subset of the NPIAS, is an annual process for reviewing the NPIAS for development project needs. From this ACIP the FAA identifies candidates that are ready to accept a grant, including those that may apply for discretionary funding. Discretionary funding includes 5 types of set-aside funding categories, further described in Section D. 5. The process begins with each eligible airport operator submitting its individual airport capital improvement plan, and follows with the formulation of the NPIAS Report, the National ACIP, and the Discretionary Candidate List (DCL). The DCL accounts for all AIP projects competing for discretionary funding for the first year of the 3-year ACIP. The DCL is prioritized based on quantitative and qualitative criteria, which are discussed in greater detail in NOFO section E. 1. and E. 2.

C. Eligibility Information

1. Eligible Applicants

Eligible applicants are public agencies owning a public-use NPIAS airport; private entities owning a public-use NPIAS airport; States acting as a sponsor for one or more specific NPIAS airports in the State; Indian tribes or pueblos owning or leasing a public-use NPIAS airport; the Secretary of the Interior for Midway Island Airport; the Republic of the Marshall Islands; the Federated States of Micronesia; and the Republic of Palau, and other applicants as outlined in Table 2-1 of Order 5100.38, Airport Improvement Program Handbook “AIP Handbook” available at: https://www.faa.gov/airports/aip/aip_handbook/.

2. Cost Sharing or Matching

AIP grants generally have Federal shares ranging from 70 percent to 95 percent. The Federal share percentage is based on the airport size and type of project per statute. Federal share by airport and project type can be found in Chapter 4 of the AIP handbook.

3. Project Eligibility

Discretionary funds are made available in accordance with 49 U.S.C. 47115, 49 U.S.C. 47117, and 49 U.S.C. 47120 to fund needs that exceed an airport's available apportioned funds. Apportioned funds are allocated in accordance with 49 U.S.C. 47114 and must be used on an airport's highest priority project(s). Discretionary funding is determined after entitlement funding has been determined. However, the FAA reviews both discretionary grants and entitlement grants for eligibility and justification per the statutory ACIP process as described below.

All projects funded with AIP must be justified and eligible under 49 U.S.C. 48103, as further outlined in Chapter 3 of the AIP Handbook. Eligible projects include those improvements related to enhancing airport safety, capacity, security, and environmental sustainability as well as evidence showing compliance with federal civil rights laws. In general, sponsors can receive AIP funds for most airfield capital improvements or rehabilitation projects and, in some specific situations, for terminals, hangars, and nonaviation development. Certain professional services that are necessary for eligible projects (such as planning, surveying, and design) may also be eligible. The FAA must be able to determine a proposed project is justified based on civil aeronautical demand. The projects must also meet Federal environmental, Buy American, and 2 CFR part 200 procurement requirements.

The discretionary planning process is a subset of the ACIP formulation process. Funds are assigned to projects in the ACIP based on project priority, funding types, and project type. Assignment of funds in the ACIP does not guarantee funding. Funding levels may vary based on annual appropriations. Discretionary projects in the ACIP are evaluated for priority and readiness in accordance with the AIP Handbook. Inclusion of a project in the national ACIP does not constitute a commitment of Federal funding. For a project to be funded under AIP, it must meet the prerequisites for funding, as found in the AIP Handbook “Table 3-1—The General Requirements for Project Funding.” These prerequisites include, but are not limited to, the project being included in the airport's approved layout plan, an environmental determination, all necessary airspace studies, title to land, the satisfaction of intergovernmental review and airport user consultation requirements, and reasonable project readiness. For the complete list, refer to the Handbook Table 3-1, available at https://www.faa.gov/airports/aip/aip_handbook/?Chapter=3#S0301. The release of funds for each individual grant project is contingent upon grant recipients meeting all of these prerequisite milestones.

D. Application and Submission Information

1. Address To Request Application Package

All inquiries should be directed to the appropriate Regional Office (RO) or Airport District Office (ADO). RO/ADO contact information is below. https://www.faa.gov/airports/regions/.

Application forms are at: https://www.faa.gov/airports/resources/forms/.

2. Content and Form of Application Submission.

For content and application information, reference Standard Operating Procedure for FAA Review and Approval of an Airport Improvement Program (AIP) Grant Application. https://www.faa.gov/airports/resources/sops/media/arp-sop-600-grant-application.pdf.

The final grant application funding requests should be based on bids or firm costs, not estimates. In addition, in FY 2022, the FAA will consider eligible and justified projects per statute 49 U.S.C. 47103, 47104, 47106, 47107, 47108, and 47109 that further the Administration's goals of safety, environmental stewardship, including climate change and sustainability, equity, creation of good jobs and infrastructure investment aligning with Executive Orders identified in this NOFO. Applications should briefly describe how the proposed project meets at least one of these goals. The Administration's Goals are identified for each discretionary project based on the following definitions.

Equity—Projects that advance equity for all, including people of color and others who have been historically underserved, marginalized, and adversely affected by persistent poverty and inequality. Examples are projects in Economically Distressed Areas (EDA), projects to meet ADA requirements, and projects in Tribal communities. The statutory criteria used for EDA impacted communities is explained at the Economically Distressed Areas (EAS/EDA Determinations) Special Rule web page. This definition also applies to statutory requirements under 49 U.S.C. 47102(3)(f) Airport Development and 47123 Non discrimination. In addition, FAA must assess that all grantees are compliant with Title VI of the Civil Rights Act of 1964, Section 504 of the Rehabilitation Act, and other federal civil rights statutes.

Environmental Stewardship—Projects that promote an equitable, clean energy future as well as standards that protect our air, water, and communities. Examples are any environmental improvements, noise projects, VALE/ZEV, deicing containment, and drainage improvements.

Job Creation—Projects that create good jobs in the community and support good paying construction jobs. Examples are projects to expand cargo or manufacturing operations, fuel farms, hangars and terminals.

Infrastructure Investment—Capital airport development projects, including projects that repair, renew, and upgrade the airports' infrastructure. “Airport development” is defined in 49 U.S.C. 47102(3) and includes a list of activities if those activities are undertaken by the sponsor, owner, or operator of a public-use airport.

As stated, safety enhancements and the preservation of a safe environment is an element of nearly every AIP project.

3. Unique Entity Identifier and System for Award Management (SAM)

Applicants must comply with 2 CFR part 25—Universal Identifier and System for Award Management. All applicants must provide a unique entity identifier provided by SAM. Additional information about obtaining a Unique Entity Identifier (UEI) and registration procedures may be found at the SAM website (currently at http://www.sam.gov). Each applicant is required to: (1) Be registered in SAM before submitting an application; (2) provide a valid UEI in its application; and (3) continue to maintain an active SAM registration with current information at all times during which the applicant has an active Federal award or an application or plan under consideration by the FAA. Under the AIP, the UEI and SAM account must belong to the entity that has the legal authority to apply for, receive, and execute AIP grants.

Once awarded, the FAA grant recipient must maintain the currency of its information in the SAM until the grant recipient submits the final financial report required under the grant or receives the final payment, whichever is later. A grant recipient must review and update the information at least annually after the initial registration and more frequently if required by changes in information or another award term.

The FAA may not make an award until the applicant has complied with all applicable UEI and SAM requirements. If an applicant has not fully complied with the requirements by the time the FAA is ready to make an award, the FAA may determine that the applicant is not qualified to receive an award and use that determination as a basis for making a Federal award to another applicant.

Non-Federal entities that have received a Federal award are required to report certain civil, criminal, or administrative proceedings to SAM (currently the Federal Awardee Performance and Integrity Information System (FAPIIS) www.fapiis.gov) to ensure registration information is current and comply with Federal requirements. Applicants should refer to 2 CFR 200.113 for more information about this requirement.

4. Submission Dates and Times

Sponsors that wish to be considered for AIP discretionary funding throughout FY 2022 should submit applications that meet these NOFO requirements as soon as possible to FAA Regional or Airport District offices. All applications submitted prior to this NOFO will be considered if they meet all existing law, federal regulations, NOFO requirements, and FAA policy.

The FAA will consider applications on a rolling basis, and the final deadline to submit discretionary grant applications is Thursday, June 30, 2022, 11:59 Eastern time. Dates are subject to possible adjustment based on future legislation. Under 49 U.S.C. 47115, the Secretary of Transportation, through the FAA, will consider projects that are the most appropriate to carry out the statute at any time prior to September 30, 2022.

Information about entitlement funds can be found at 86 FR 72304, published on December 21, 2021.

5. Funding Restrictions

Under 49 U.S.C. 47115 and 47116, projects must meet airport and project eligibility and justification criteria. Eligibility is derived from statute and may include projects to enhance airport safety, capacity, security, and environmental concerns. In general, sponsors may receive AIP funds for most airfield capital improvements and in specific situations, for terminals, hangars, equipment, and non-aeronautical development. Projects related to airport operations are not eligible for funding. Operational costs—such as salaries, equipment, and supplies—are not eligible for AIP grants.

Furthermore, Chapter 4 of the AIP Handbook describes the funding restrictions by airport type (Table 4-4) and project restrictions by fund type (Table 4-5). Discretionary funding is broken down into 5 categories: 1. Environmental Set-Aside, which includes Noise Compatibility and Implementation Programs, the VALE Program, and ZEV Program; 2. Reliever Set Aside; 3. Military Airport Program (MAP) Set-Aside; 4. Capacity/Safety/Security/Noise (C/S/S/N); and 5. Pure Discretionary. Each of these fund types has certain public use NPIAS airport categories that can use this funding, as described in Table 4-4 of the AIP Handbook, for example, C/S/S/N funding is only available to primary and reliever airports. Each of the discretionary fund types also has certain project restrictions by fund type, as outlined in Table 4-5 of the AIP Handbook, for example, Reliever Set Aside funding may not be used for terminal buildings.

The AIP has funding restrictions by airport and/or project type. Please see below criteria and refer to AIP Handbook, Chapter 3 and 4, for further details on eligibility criteria and funding restrictions available at: https://www.faa.gov/airports/aip/aip_handbook/. The AIP Handbook is the published policy for AIP. Except where options are specifically noted or where non-mandatory language is used, the procedures and requirements are mandatory. The general requirements for project funding include considerations of: Project eligibility; project justification; good title of airport property; an FAA approved airport layout plan; a complete intergovernmental review; airport-user consultations; complete required environmental reviews; a determination that the grant will yield a usable unit of work; certification that the project specification will meet FAA standards; applicable cost justifications; and a work plan to complete the project without unreasonable delay.

6. Other Submission Requirements

Contact RO/ADO for the submission process. RO/ADO contact information is below. https://www.faa.gov/airports/regions/.

E. Application Review Information

1. Criteria

The Secretary of Transportation will evaluate and administer AIP applications consistent with the statutory criteria as described in 49 U.S.C. 47115. Under 49 U.S.C. 47115(d), capacity enhancement projects have additional considerations, including a project's impact on national transportation system capacity, airport capacity, and global air cargo activity. For all projects, 49 U.S.C. 47115(d)(2) states that in selecting a project for a grant under that section, the Secretary shall consider among other factors whether funding has been provided for all other projects qualifying for funding during the fiscal year under this chapter that have attained a higher score under the numerical priority system employed by the Secretary in administering the fund; and the sponsor will be able to commence the work identified in the project application in the fiscal year in which the grant is made or within 6 months after the grant is made, whichever is later. The ACIP emphasizes using AIP funding on the highest priority projects as required by statute. The numerical priority system is described in section E.2. of this NOFO.

Annual submission from a sponsor of its 5-year Capital Improvement Program (CIP) to the FAA typically initiates the review process. In order for the FAA to include a project in the ACIP, the project must be eligible and justified.

Selection criteria include project eligibility, justification, readiness, and the availability of funds. For a project to be funded through the AIP, certain prerequisites must be completed. These prerequisites are: The project is included in the airport's approved layout plan, an environmental determination, and all necessary airspace studies. Prerequisites must be met in order for grant funding to be released.

2. Review and Selection Process

The FAA's review of submitted projects takes place during the formulation of the ACIP. Through the annual ACIP process, the FAA systematically identifies, plans, and prioritizes airport planning and development projects for AIP funding to produce a three-year funding plan. The ACIP is a needs-based and financially-constrained plan for funding development over a rolling three-year period. The National Priority System (NPS) equation is used to calculate the National Priority Rating (NPR), a quantitative measure used for ranking project importance. The NPR is calculated using the NPS equation, which considers the type of airport, the purpose of the project, the component of the project, and the type of action. The resulting score, between 1 and 100, is known as the national priority rating (NPR). The NPR score prioritizes airport development projects according to FAA goals and objectives, with higher numerical scores indicating the project is more aligned with FAA goals and objectives. The maximum value of the NPS equation is 100. NPIAS-ACIP Order Section 5.7.3 and NPIAS-ACIP Order Appendix B provide a detailed explanation of the NPS Equation, which is available at https://www.faa.gov/airports/planning_capacity/npias_acip_order/.

In the administration of the AIP, the FAA gives the highest priority to projects that enhance safety and security at airports. Other major objectives are achieved by awarding AIP funds to projects that maintain existing airport infrastructure and increase or maintain the capacity of existing facilities to accommodate increasing passenger and cargo demand.

DCL projects are prioritized based on the NPR. The NPR emphasizes using AIP funding on the highest priority projects as required by statute. However, the NPR is always the only factor for determining a project's priority. For this reason, the ACIP process considers other qualitative factors to supplement the NPR score in determining priorities. Qualitative factors are assessed through project justifications and priority project identification. FAA goals considered in project justifications include Safety or Security, System Capacity, Environment, and Access. Qualitative factors do not impact the NPR for a given project but are taken into account in funding decisions.

This program also supports the President's goals to mobilize American ingenuity to build modern infrastructure and an equitable, clean energy future while supporting the creation of good jobs. The FAA will consider discretionary grants that advance the goals of the President's Executive Order 13985, “Advancing Racial Equity and Support for Underserved Communities Through the Federal Government”; the President's Executive Order 13988, “Preventing and Combating Discrimination on the Basis of Gender Identity or Sexual Orientation”; the President's Executive Order 14008, “Tackling the Climate Crisis at Home and Abroad”; and the President's Executive Order 14025, “Worker Organizing and Empowerment.” The FAA will consider the extent to which the project incorporates considerations of climate change and sustainability, to the extent possible within the program. FAA will consider the extent to which the project proactively addresses racial equity and barriers to opportunity, to the extent possible within the program.

In addition to the Administration's priority of promoting building infrastructure with American workers detailed in the President's Executive Order 14005, “Ensuring the Future is Made in all of America by All of America's Workers,” every AIP grant recipient must comply with the requirements under the Build America, Buy America Act (Pub. L. 117-58).

Also, in addition to this program supporting the President's Executive Order 13166, “Improving Access to Services for Persons with Limited English Proficiency,” all recipients of federal funding are subject to Title VI of the Civil Rights Act of 1964, which includes the requirement that, in certain circumstances, grant recipients ensure that persons with LEP can effectively participate in or benefit from federally assisted programs and activities, such as those arising from an AIP grant pursuant to this NOFO, and the terms of any AIP grant agreement.

3. Integrity and Performance Check

Prior to making a Federal award with a total amount of Federal share greater than the simplified acquisition threshold, the FAA is required to review and consider any information about the applicant that is in the designated integrity and performance system accessible through SAM (currently FAPIIS) (see 41 U.S.C. 2313). An applicant, at its option, may review information in the designated integrity and performance systems accessible through SAM and comment on any information about itself that a Federal awarding agency previously entered and is currently in the designated integrity and performance system accessible through SAM. The FAA will consider any comments by the applicant, in addition to the other information in the designated integrity and performance system, in making a judgment about the applicant's integrity, business ethics, and record of performance under Federal awards when completing the review of risk posed by applicants as described in 2 CFR 200.206.

F. Federal Award Administration Information

1. Federal Award Notices

AIP awards are announced through Congressional notification, and the FAA RO/ADO representative will contact the sponsor with further information and instructions. Once all pre-grant actions are complete, the FAA RO/ADO will offer the sponsor a grant for the announced project. This offer may be provided through postal mail or by electronic means, and it includes an offer letter and a grant agreement. Once the sponsor accepts the offer and has fully executed the grant agreement, that agreement becomes the legally binding grant award document. Awards made under this program are subject to conditions and assurances in the grant agreement. In FY 2022, the FAA will announce awards several times throughout the fiscal year, but no later than September 30, 2022. These announcements can include entitlement and discretionary awards.

2. Administrative Requirements

i. Pre-Award Authority

Under 49 U.S.C. 47110(b)(2), all project costs must be incurred after the grant execution date unless specifically permitted under the AIP statutes. Table 3-60 of the AIP Handbook lists the rules regarding when project costs can be incurred in relation to the grant execution date, the type of funding, and the type of project. Certain airport development costs incurred before execution of the grant agreement are allowable, but only if certain conditions under 49 U.S.C. 47110(b)(2)(D) and Table 3-60 of the AIP Handbook are met. Specifically, all allowable costs using passenger, cargo, and nonprimary entitlement (formula) funding after 9/30/1996 may be reimbursed regardless of whether they were incurred before the grant was executed as long as all other applicable AIP requirements have been met. In addition, allowable costs using any or all the following discretionary, state apportionment (including insular) and Alaska supplemental funding project costs must have been incurred after the grant execution date. The only exceptions are based on statute and are relating to the Part 150 Noise Mitigation program, project formulation for development and planning projects, land acquisition, letters of intent, and design-build projects, Military Airport Program and climate-related conditions.

ii. Planning

The FAA encourages applicants to review and understand the long-term planning process in the lifecycle of an AIP grant. The planning process for a particular project begins several years before a fiscal year in which a grant is awarded. FAA Order 5090.5 establishes guidelines for the two Federal plans essential to airport development: The National Plan of Integrated Airport Systems (NPIAS) and the Airports Capital Improvement Plan (ACIP) is available at https://www.faa.gov/airports/planning_capacity/npias_acip_order/.

iii. Grant Requirements

All grant recipients are subject to the grant requirements of the AIP, which includes requirements of 49 U.S.C. Chapter 471. Grant recipients are subject to requirements in the FAA's Agreement for AIP for financial assistance awards, the annual Certifications and Assurances required of applicants, and any additional applicable statutory or regulatory requirements, including nondiscrimination requirements, 2 CFR part 200, Uniform Administrative Requirements, Cost Principles, and Audit Requirements for Federal Awards. Grant requirements include, but are not limited to, approved project on an airport layout plan, compliance with federal civil rights laws, Buy American requirements under 49 U.S.C. 50101, Build America, Buy America Act requirements under Public Law 117-58, Transportation Disadvantaged Business Enterprise (DBE) program regulations for Airports (49 CFR part 23 and 49 CFR part 26), and Davis-Bacon Act, as amended (40 U.S.C. 276a—276a-5).

iv. Standard Assurances

Applicants must assure that it will comply with all applicable Federal statutes, regulations, executive orders, directives, FAA circulars, and other Federal administrative requirements in carrying out any project supported by the AIP grant. Applicants must acknowledge that they are under a continuing obligation to comply with the terms and conditions of the grant agreement issued for its project with the FAA. Applicants understand that Federal laws, regulations, policies, and administrative practices might be modified from time to time and may affect the implementation of the project. Applicants must agree that the most recent Federal requirements will apply to the project unless the FAA issues a written determination otherwise.

Applicants must submit the Certifications and Assurances before receiving a grant, including sponsor grant assurances and 2 CFR part 200. The Airport Sponsor Assurances are available on the FAA website at: https://www.faa.gov/airports/aip/grant_assurances/.

3. Reporting

The grant recipient is subject to financial reporting per 2 CFR 200.328 and performance reporting per 2 CFR 200.329. Under the AIP, the grant recipient is required to comply with all Federal financial reporting requirements and payment requirements, including the submittal of timely and accurate reports. Financial and performance reporting requirements are available in the FAA October 2020 Financial Reporting Policy, which is available at https://www.faa.gov/airports/aip/grant_payments/media/aip-grant-payment-policy.pdf.

The grant recipient must comply with annual audit reporting requirements. The grant recipient and sub-recipients, if applicable, must comply with 2 CFR part 200 subpart F Audit reporting requirements. The grant recipient must comply with any reporting requirements outlined in 2 CFR part 180, OMB Guidelines to Agencies on Government-wide Debarment and Suspension.

G. Federal Awarding Agency Contact(s)

Please contact your local Regional Office or District Office. Contact information is available at https://www.faa.gov/airports/regions/.

Issued in Washington, DC, on April 14, 2022.
Robert John Craven,
Director, Office of Airport Planning and Programming.

[FR Doc. 2022-08412 Filed 4-19-22; 8:45 am]

BILLING CODE 4910-13-P